DEPARTMENT OF HEALTH AND HUMAN SERVICES

Centers for Disease Control and Prevention

[Announcement Number 01055]

Building Influenza Surveillance Capacity in Asia; Notice of Availability of Funds

A. Purpose

The Centers for Disease Control and Prevention (CDC) announces the availability of fiscal year (FY) 2001 funds for a cooperative agreement program with the Western Pacific Regional Office of the World Health Organization (WHO) for building influenza surveillance capacity in Asia. This program addresses the “Healthy People 2010” focus areas of Immunization and Infectious Diseases and Public Health Infrastructure. For additional information on “Healthy People 2010” visit the internet site: http://www.health.gov/healthypeople.

The purpose of the program is to build influenza surveillance capacity in Asia by improving infrastructure and providing training and technical assistance. Asia has long been thought by experts to be the starting point for new influenza viruses.

Improving the infrastructure and surveillance capacity for influenza surveillance in Asia has a direct impact on the United States (U.S.) and globally by improving influenza surveillance, the basis for international and U.S. vaccine decisions, and improving the early detection system for influenza viruses with pandemic potential.

B. Eligible Applicants

Assistance will be provided only to the Western Pacific Regional Office (WPRO) of the World Health Organization (WHO). No other applications are solicited.

WPRO is the only international, non-government organization in the Western Pacific region qualified to conduct the activities under this cooperative agreement because:

1. As a Regional Office of WHO, they are in a unique position to act as the technical agency for health within the United Nations.

2. WPRO's location in Manila and formal collaborative ties to 37 countries in the region gives them access to the national health promotion and disease prevention programs and potential sites to expand influenza surveillance in the countries located in the region.

3. WPRO collaborates with other international organizations to accomplish its mission by disseminating information related to infectious disease program needs and services, making recommendations for improved policies and programs, and provides consultation and guidance at all levels in the region.

4. As a regional office of WHO, WPRO offers special opportunities for furthering research programs through the use of unusual talent resources and through a vast working knowledge of the specific abilities and needs in each country in the region.

5. WPRO is uniquely qualified to conduct activities to enhance influenza surveillance capacity which have specific relevance to the mission and objectives of CDC and which have potential to advance knowledge that benefits the U.S. and the international community.

C. Availability of Funds

Approximately $125,000 is available in FY 2001 to fund one award. It is expected that the award will begin on or about August 1, 2001, and will be made for a 12-month budget period within a project period of up to five years. The funding estimate may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Develop strategies to enhance influenza surveillance capacity for both diseased-based and virologic surveillance of influenza and build infrastructure for those programs in the region.

b. Analyze national resources of the countries in the region devoted to influenza surveillance and identify shortfalls in human, technical, and equipment resources, then develop plans to resolve recognized deficiencies.

c. Assist public health authorities in the Western Pacific Region in developing and implementing effective prevention and control strategies for influenza including surveillance, pandemic planning activities, facilitating improvement of vaccine production, supply and distribution issues, and regional coordination of these issues.

d. Conduct applied surveillance research focusing on recognition and response to novel influenza virus isolates.

e. Monitor and evaluate program performance.

2. CDC Activities

a. Provide technical assistance in the design, conduct, and evaluation of surveillance projects and activities.

b. Perform selected laboratory tests, as requested by WPRO, on isolates collected from the region.

c. Assist in data collection, data management, data analysis, and interpretation of data generated from surveillance projects.

d. Participate in dissemination of program information and surveillance data.

e. Provide educational and training materials as appropriate.

E. Application Content

Use the information in the Program Requirements, Other Requirements, and Evaluation Criteria sections to develop the application content. The application will be evaluated on the criteria listed, so it is important to follow them in laying out your program plan. The narrative should be no more than 40 double-spaced pages, printed on one side, with one-inch margins, and unreduced font.

The application should follow this format:

1. Introduction: Present the overall objectives of the cooperative agreement program. Present the general plan for management and implementation of the activities.

2. Individual Project Proposals: Present a detailed proposal for each separate project/activity (for multi-year projects, present details for the first year and include only a brief description of future-year activities). Each proposal should include the following sections in this order:

a. Title

b. Background and Need

c. Objectives

d. Operational Plan

e. Budget and Justification

If requesting funds in the “Contractual” line-item, the Budget section should include the following information for each contract: (a) name of proposed contractor, (b) breakdown and justification for estimated costs, (c) description and scope of activities to be performed by contractor, (d) period of performance, and (e) method of contractor selection (e.g., sole-source or competitive solicitation).

F. Submission and Deadline

Submit the original and five copies of PHS-398 (OMB Number 0925-0001)(adhere to the instructions on the Errata Instruction Sheet for PHS 398). Forms are in the application kit.

On or before June 1, 2001, submit the application to the Grants Management Specialist identified in the “Where to Obtain Additional Information” section of this announcement.

G. Evaluation Criteria

The application will be evaluated against the following criteria by an independent review group appointed by CDC.

1. Background and Need (25 points):

The extent to which the background and need are clearly presented for the program.

2. Objectives (30 points):

The extent to which the activities proposed and their objectives are clear and consistent with the purpose and Program Requirements of this cooperative agreement announcement.

3. Operational Plan (45 points):

The extent to which the operational plan(s) for conducting the proposed activities

a. are clear, detailed, and appropriate to achieve the stated objectives;

b. identify the key personnel and organizations responsible for the proposed activities;

c. identify a specific timetable for activities;

d. include a plan for evaluation of progress towards objectives; and

4. Human Subjects (not scored):

Does the application adequately address the requirements of Title 45 CFR Part 46 for the protection of human subjects?

5. Budget (not scored):

The extent to which the project budget includes detailed line-item justification and is appropriate for the activities proposed.

H. Other Requirements

Technical Reporting Requirements

Provide CDC with original plus two copies of

1. Progress reports (semiannual);

2. Financial Status Report, no more than 90 days after the end of the budget period; and

3. Final financial and performance reports, no more than 90 days after the end of the project period.

Send all reports to the Grants Management Specialist identified in the “Where to Obtain Additional Information” section of this announcement.

For descriptions of the following Other Requirements, see Attachment I.

AR-9 Paperwork Reduction Act Requirements

AR-10 Smoke-Free Workplace Requirements

AR-11 Healthy People 2010

AR-12 Lobbying Restrictions

AR-22 Research Integrity

I. Authority and Catalog of Federal Domestic Assistance Number

This program is authorized under sections 301(a), 307, and 317(k)(1) and 317(k)(2) of the Public Health Service Act, [42 U.S.C. sections 241(a), 2421, and 247b(k)(1) and 247(k)(2)], as amended. The Catalog of Federal Domestic Assistance number is 93.283.

J. Where to Obtain Additional Information

This and other CDC announcements can be found on the CDC home page Internet address—http://www.cdc.gov Click on “Funding” then “Grants and Cooperative Agreements.”

To obtain additional information, contact: Mattie B. Jackson, Lead Grants Management Specialist, Grants Management Branch, Procurement and Grants Office, Centers for Disease Control and Prevention, Room 3000, 2920 Brandywine Road, Atlanta, GA 30341-4146, Telephone number 770-488-2718, Email address mij3@cdc.gov.

For program technical assistance, contact: Ann Moen, Public Health Advisor, National Center for Infectious Diseases, Centers for Disease Control and Prevention, 1600 Clifton Road, N.E. MS G-16, Atlanta, GA 30333, Telephone 404-639-4652, Email address amoen@cdc.gov.

Dated: April 10, 2001.
John L. Williams,
Director, Procurement and Grants Office, Centers for Disease Control and Prevention (CDC).

[FR Doc. 01-9314 Filed 4-13-01; 8:45 am]

BILLING CODE 4163-18-P